DEPARTMENT OF HOMELAND SECURITY

Federal Emergency Management Agency

[Docket ID FEMA-2017-0002; Internal Agency Docket No. FEMA-B-1711]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 25, 2017.
Roy E. Wright,
Deputy Associate Administrator for Insurance and Mitigation, Department of Homeland Security, Federal Emergency Management Agency.

State and county | Location and case No. | Chief executive officer of community | Community map repository | Online location of letter of map revision | Effective date of modification | Community No.
Arizona:
Yavapai | Town of Prescott Valley, (16-09-1866P) | The Honorable Harvey C. Skoog, Mayor, Town of Prescott Valley, 7501 East Civic Circle, Prescott Valley, AZ 86314 | Engineering Division, 7501 East Civic Circle, Prescott Valley, AZ 86314 | http://www.msc.fema.gov/lomc. | Jun. 20, 2017 | 040121.
Yavapai | Unincorporated areas of Yavapai County, (16-09-1866P) | The Honorable Thomas Thurman, Chairman, Yavapai County Board of Supervisors, 1400 Orchard Court, Dewey, AZ 86327 | Yavapai County Flood Control District, 1120 Commerce Drive, Prescott, AZ 86305 | http://www.msc.fema.gov/lomc. | Jun. 20, 2017 | 040093.
Arkansas: Benton | Unincorporated areas of Benton County, (16-06-4287P) | The Honorable Barry Moehring, Benton County Judge, 215 East Central Avenue, Bentonville, AR 72712 | Benton County Development Department, 905 Northwest 8th Street, Bentonville, AR 72712 | http://www.msc.fema.gov/lomc. | Jun. 15, 2017 | 050419.
Colorado:
Boulder | City of Boulder, (17-08-0151P) | The Honorable Suzanne Jones, Mayor, City of Boulder, P.O. Box 791, Boulder, CO 80306 | Municipal Building, 1777 Broadway Street, Boulder, CO 80302 | http://www.msc.fema.gov/lomc. | Jun. 20, 2017 | 080024.
El Paso | Unincorporated areas of El Paso County, (16-08-1065P) | The Honorable Darryl Glenn, President, El Paso County, Board of Commissioners, 200 South Cascade Avenue, Suite 100, Colorado Springs, CO 80903 | El Paso County Regional Building Department, 2880 International Circle, Colorado Springs, CO 80910 | http://www.msc.fema.gov/lomc. | Jun. 15, 2017 | 080059.
Jefferson | City of Golden, (16-08-1269P) | The Honorable Marjorie N. Sloan, Mayor, City of Golden, 911 10th Street, Golden, CO 80401 | Planning and Public Works Department, 1445 10th Street, Golden, CO 80401 | http://www.msc.fema.gov/lomc. | Jun. 23, 2017 | 080090.
Jefferson | City of Lakewood, (16-08-1275P) | The Honorable Adam Paul, Mayor, City of Lakewood, 480 South Allison Parkway, Lakewood, CO 80226 | Public Works Department, 480 South Allison Parkway, Lakewood, CO 80226 | http://www.msc.fema.gov/lomc. | Jun. 2, 2017 | 085075.
Weld | Unincorporated areas of Weld County, (16-08-0665P) | The Honorable Mike Freeman, Chairman, Weld County, Board of Commissioners, P.O. Box 758, Greeley, CO 80632 | Weld County Commissioner's Office, 915 10th Street, Greeley, CO 80632 | http://www.msc.fema.gov/lomc. | Jun. 20, 2017 | 085266.
Weld | Unincorporated areas of Weld County, (16-08-0734P) | The Honorable Mike Freeman, Chairman, Weld County, Board of Commissioners, P.O. Box 758, Greeley, CO 80632 | Weld County Commissioner's Office, 915 10th Street, Greeley, CO 80632 | http://www.msc.fema.gov/lomc. | Jun. 21, 2017 | 085266.
Connecticut:
Middlesex | Town of Clinton, (16-01-2812P) | The Honorable Bruce N. Farmer, First Selectman, Town of Clinton Board of Selectmen, 54 East Main Street, Clinton, CT 06413 | Planning and Zoning Department, 54 East Main Street, Clinton, CT 06413 | http://www.msc.fema.gov/lomc. | Jun. 30, 2017 | 090061.
Middlesex | Town of Cromwell, (16-01-2223P) | Mr. Anthony J. Salvatore, Manager, Town of Cromwell, 41 West Street, Cromwell, CT 06416 | Town Hall, 41 West Street, Cromwell, CT 06416 | http://www.msc.fema.gov/lomc. | Jun. 15, 2017 | 090123.
Florida:
Broward | City of Parkland, (16-04-7729P) | The Honorable Christine Hunschofsky, Mayor, City of Parkland, 6600 University Drive, Parkland, FL 33067 | Building Division, 6600 University Drive, Parkland, FL 33067 | http://www.msc.fema.gov/lomc. | Jun. 20, 2017 | 120051.
Lee | City of Sanibel, (16-04-7608P) | The Honorable Kevin Ruane, Mayor, City of Sanibel, 800 Dunlop Road, Sanibel, FL 33957 | Planning and Code Enforcement Department, 800 Dunlop Road, Sanibel, FL 33957 | http://www.msc.fema.gov/lomc. | Jun. 30, 2017 | 120402.
Lee | City of Sanibel, (17-04-0941P) | The Honorable Kevin Ruane, Mayor, City of Sanibel, 800 Dunlop Road, Sanibel, FL 33957 | Planning and Code Enforcement Department, 800 Dunlop Road, Sanibel, FL 33957 | http://www.msc.fema.gov/lomc. | Jun. 23, 2017 | 120402.
Lee | Town of Fort Myers Beach (17-04-1151P) | The Honorable Dennis C. Boback, Mayor, Town of Fort Myers Beach, 2525 Estero Boulevard, Fort Myers Beach, FL 33931 | Community Development Department, 2525 Estero Boulevard, Fort Myers Beach, FL 33931 | http://www.msc.fema.gov/lomc. | Jun. 29, 2017 | 120673.
Leon | City of Tallahassee, (16-04-3774P) | The Honorable Andrew Gillum, Mayor, City of Tallahassee, 300 South Adams Street, Tallahassee, FL 32301 | Stormwater Management Division, 300 South Adams Street, Tallahassee, FL 32301 | http://www.msc.fema.gov/lomc. | May 30, 2017 | 120144.
Monroe | City of Key West, (17-04-1155P) | The Honorable Craig Cates, Mayor, City of Key West, 1300 White Street, Key West, FL 33040 | Building Department, 1300 White Street, Key West, FL 33040 | http://www.msc.fema.gov/lomc. | Jun. 23, 2017 | 120168.
Monroe | Unincorporated areas of Monroe County, (17-04-1155P) | The Honorable George Neugent, Mayor, Monroe County, Board of Commissioners, 500 Whitehead Street, Suite 102, Key West, FL 33040 | Monroe County Building Department, 2798 Overseas Highway, Suite 300, Marathon, FL 33050 | http://www.msc.fema.gov/lomc. | Jun. 23, 2017 | 125129.
Monroe | Village of Islamorada, (16-04-7741P) | The Honorable Jim Mooney, Mayor, Village of Islamorada, 86800 Overseas Highway, Islamorada, FL 33036 | Planning and Development Services Department, 86800 Overseas Highway, Islamorada, FL 33036 | http://www.msc.fema.gov/lomc. | Jun. 16, 2017 | 120424.
Osceola | City of St. Cloud, (17-04-2758P) | The Honorable Rebecca Borders, Mayor, City of St. Cloud, 1300 9th Street, St. Cloud, FL 34769 | Public Services Department, 1300 9th Street, St. Cloud, FL 34769 | http://www.msc.fema.gov/lomc. | Jul. 5, 2017 | 120191.
Osceola | Unincorporated areas of Osceola County, (17-04-2758P) | The Honorable Brandon Arrington, Chairman, Osceola County Board of Commissioners, 1 Courthouse Square, Suite 4700, Kissimmee, FL 34741 | Osceola County Community Development Department, 1 Courthouse Square, Suite 1400, Kissimmee, FL 34741 | http://www.msc.fema.gov/lomc. | Jul. 5, 2017 | 120189.
Pinellas | City of St. Petersburg, (15-04-9249P) | The Honorable Rick Kriseman, Mayor, City of St. Petersburg, 175 5th Street North, St. Petersburg, FL 33701 | Municipal Services Center, Permit Division, 1 4th Street North, St. Petersburg, FL 33701 | http://www.msc.fema.gov/lomc. | Jun. 8, 2017 | 125148.
Polk | Unincorporated areas of Polk County, (17-04-2106P) | The Honorable John E. Hall, Chairman, Polk County, Board of Commissioners, P.O. Box 9005, Drawer BC01, Bartow, FL 33831 | Polk County Land Development Division, 330 West Church Street, Bartow, FL 33830 | http://www.msc.fema.gov/lomc. | Jun. 1, 2017 | 120261.
Georgia: Gwinnett | Unincorporated areas of Gwinnett County, (16-04-7239P) | The Honorable Charlotte J. Nash, Chair, Gwinnett County, Board of Commissioners, 75 Langley Drive, Lawrenceville, GA 30046 | Gwinnett County Stormwater Management Division, 684 Winder Highway, Lawrenceville, GA 30045 | http://www.msc.fema.gov/lomc. | Jun. 5, 2017 | 130322.
Maine: Oxford | Town of Rumford, (16-01-2320P) | Mr. John E. Madigan, Jr., Manager, Town of Rumford, 145 Congress Street, Rumford, ME 04276 | Municipal Office Building, 145 Congress Street, Rumford, ME 04276 | http://www.msc.fema.gov/lomc. | Jun. 1, 2017 | 230099.
Maryland:
Baltimore | Unincorporated areas of Baltimore County, (16-03-1236P) | The Honorable Kevin Kamenetz, Baltimore County Executive, 400 Washington Avenue, Towson, MD 21204 | Public Works Department, 111 West Chesapeake Avenue, Suite 307, Towson, MD 21204 | http://www.msc.fema.gov/lomc. | Jun. 20, 2017 | 240010.
Harford | City of Havre de Grace, (16-03-2684P) | The Honorable William T. Martin, Mayor, City of Havre de Grace, 711 Pennington Avenue, Havre de Grace, MD 21078 | Department of Planning, 711 Pennington Avenue, Havre de Grace, MD 21078 | http://www.msc.fema.gov/lomc. | Jun. 19, 2017 | 240043.
New Hampshire:
Hillsborough | Town of Hancock, (16-01-2528P) | The Honorable John Jordan, Chairman, Town of Hancock Selectboard, P.O. Box 6, Hancock, NH 03449 | Town Hall, 50 Main Street, Hancock, NH 03449 | http://www.msc.fema.gov/lomc. | Jun. 22, 2017 | 330089.
Rockingham | Town of Salem, (16-01-2177P) | The Honorable James S. Keller, Chairman, Town of Salem Board of Selectmen, 33 Geremonty Drive, Salem, NH 03079 | Town Hall, 33 Geremonty Drive, Salem, NH 03079 | http://www.msc.fema.gov/lomc. | Jun. 16, 2017 | 330142.
North Carolina:
Randolph | Unincorporated areas of Randolph County, (16-04-5817P) | The Honorable David Allen, Chairman, Randolph County Board of Commissioners, 725 McDowell Road, Asheboro, NC 27205 | Randolph County Planning and Zoning Department, 204 East Academy Street, Asheboro, NC 27203 | http://www.msc.fema.gov/lomc. | May 30, 2017 | 370403.
Surry | Unincorporated areas of Surry County, (17-04-1025P) | The Honorable Eddie Harris, Chairman, Surry County Board of Commissioners, 118 Hamby Road, Dobson, NC 27017 | Surry County Planning and Development Department, 122 Hamby Road, Dobson, NC 27017 | http://www.msc.fema.gov/lomc. | Jun. 21, 2017 | 370364.
Oklahoma:
Cleveland | City of Norman, (16-06-2604P) | The Honorable Lynne Miller, Mayor, City of Norman, P.O. Box 370, Norman, OK 73070 | Department of Public Works, 201 West Gray Street, Norman, OK 73069 | http://www.msc.fema.gov/lomc. | May 31, 2017 | 400046.
Osage | City of Tulsa, (17-06-0847P) | The Honorable G. T. Bynum, Mayor, City of Tulsa, 175 East 2nd Street, 15th Floor, Tulsa, OK 74103 | Planning and Development Department, 175 East 2nd Street, 4th Floor, Tulsa, OK 74103 | http://www.msc.fema.gov/lomc. | Jun. 21, 2017 | 405381.
South Carolina: Charleston | City of Charleston, (17-04-1149P) | The Honorable John J. Tecklenburg, Mayor, City of Charleston, P.O. Box 652, Charleston, SC 29402 | Building Inspections Department, 2 George Street, Charleston, SC 29401 | http://www.msc.fema.gov/lomc. | Jul. 3, 2017 |
Texas:
Bexar | City of San Antonio, (16-06-3466P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc. | Jun. 6, 2017 | 480045.
Bexar | City of San Antonio, (16-06-4371P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc. | Jun. 29, 2017 | 480045.
Collin | City of Richardson, (16-06-3349P) | The Honorable Paul Voelker, Mayor, City of Richardson, P.O. Box 830309, Richardson, TX 75083 | City Hall, 411 West Arapaho Road, Richardson, TX 75080 | http://www.msc.fema.gov/lomc. | Jun. 8, 2017 | 480184.
Collin | Town of Prosper, (16-06-4255P) | The Honorable Ray Smith, Mayor, Town of Prosper, P.O. Box 307, Prosper, TX 75078 | Engineering Services Department, 407 East 1st Street, Prosper, TX 75078 | http://www.msc.fema.gov/lomc. | May 25, 2017 | 480141.
Dallas | City of Irving, (16-06-2467P) | The Honorable Beth Van Duyne, Mayor, City of Irving, 825 West Irving Boulevard, Irving, TX 75060 | Capital Improvement Program Department, Engineering Section, 825 West Irving Boulevard, Irving, TX 75060 | http://www.msc.fema.gov/lomc. | May 30, 2017 | 480180.
Fort Bend | City of Missouri City, (16-06-2183P) | The Honorable Allen Owen, Mayor, City of Missouri City, 1522 Texas Parkway, Missouri City, TX 77489 | Public Works Department, 1522 Texas Parkway, Missouri City, TX 77489 | http://www.msc.fema.gov/lomc. | Jun. 27, 2017 | 480304.
Fort Bend | Fort Bend County M.U.D.#23, (16-06-2183P) | The Honorable William Thomas, President, Fort Bend County M.U.D.#23 Board of Directors, 3200 Southwest Freeway, Suite 2600, Houston, TX 77027 | Fort Bend County Engineering Department, 301 Jackson Street, Richmond, TX 77469 | http://www.msc.fema.gov/lomc. | Jun. 27, 2017 | 481590.
Fort Bend | Unincorporated areas of Fort Bend County, (16-06-2183P) | The Honorable Robert Hebert, Fort Bend County Judge, 401 Jackson Street, Richmond, TX 77469 | Fort Bend County Engineering Department, 301 Jackson Street, Richmond, TX 77469 | http://www.msc.fema.gov/lomc. | Jun. 27, 2017 | 480228.
Hays | City of San Marcos, (16-06-3604P) | The Honorable John Thomaides, Mayor, City of San Marcos, 630 East Hopkins Street, San Marcos, TX 78666 | Engineering Department, 630 East Hopkins Street, San Marcos, TX 78666 | http://www.msc.fema.gov/lomc. | Jun. 23, 2017 | 485505.
Virginia: Prince William | Unincorporated areas of Prince William County, (16-03-1829P) | Mr. Christopher E. Martino, Prince William County Executive, 1 County Complex Court, Prince William, VA 22192 | Prince William County Department of Public Works, 5 County Complex Court, Prince William, VA 22192 | http://www.msc.fema.gov/lomc. | Jun. 15, 2017 | 510119.

[FR Doc. 2017-10184 Filed 5-18-17; 8:45 am]

BILLING CODE 9110-12-P